DEPARTMENT OF ENERGY

Federal Energy Regulatory Commission

[Docket No. EL15-73-000]

Duke Energy Corporation, Duke Energy Commercial Asset Management, Inc., and Duke Energy Lee II, LLC v. PJM Interconnection, L.L.C., and PJM Settlement, Inc.; PJM Interconnection, L.L.C.; Notice of Institution of Section 206 Proceeding and Refund Effective Date

On June 9, 2015, the Commission issued an order in Docket No. EL15-73-000, pursuant to section 206 of the Federal Power Act (FPA), 16 U.S.C. 824e (2012), instituting an investigation into the justness and reasonableness of aspects of PJM Interconnection, L.L.C.'s Open Access Transmission Tariff and Amended and Restated Operating Agreement. Duke Energy Corp., 151 FERC ¶ 61,206 (2015).

The refund effective date in Docket No. EL15-73-000, established pursuant to section 206(b) of the FPA, will be the date of publication of this notice in the Federal Register.

Dated: June 10, 2015.
Nathaniel J. Davis, Sr.,
Deputy Secretary.

[FR Doc. 2015-14894 Filed 6-16-15; 8:45 am]

BILLING CODE 6717-01-P